DEPARTMENT OF HEALTH AND HUMAN SERVICES

Administration for Children and Families

[Office of Management and Budget #: 0970-0554]

Correction to Published Federal Register Notice; Office of Management and Budget Review Placement and Transfer of Unaccompanied [Alien] Children Into Office of Refugee Resettlement Care Provider Facilities

AGENCY: Office of Refugee Resettlement, Administration for Children and Families, Department of Health and Human Services.

ACTION: Notice; correction.

SUMMARY: The Office of Refugee Resettlement (ORR), Administration for Children and Families (ACF), U.S. Department of Health and Human Services published a notice in the Federal Register on September 30, 2025 inviting public comments on a request to extend approval of forms approved for the Placement and Transfer of Unaccompanied [Alien] Children into ORR Care Provider Facilities. Prior to publishing the notice, ORR received emergency approval from the Office of Management and Budget (OMB) for revisions to two forms included in this collection of forms: Form P-7 and Form P-4. The incorrect version of form P-7 was inadvertently approved and distributed for public comment.

FOR FURTHER INFORMATION CONTACT: ACF Paperwork Reduction Act Staff; infocollection@acf.hhs.gov. Identify all emailed requests by the title of the information collection. The correct version of P-7 is now available here: https://www.reginfo.gov/public/do/PRAICList?ref_nbr=202512-0970-002.

DATES: Comments due January 20, 2026.

SUPPLEMENTARY INFORMATION:

Correction

Federal Register Document Number 2025-18927 (90 FR 46898) requested public comment on information collection materials to be submitted to OMB for extension beyond the current expiration date of February 28, 2025. The incorrect version of form P-7 was inadvertently approved and distributed for public comment, but is now available here: https://www.reginfo.gov/public/do/PRAICList?ref_nbr=202512-0970-002 and available for comment by emailing infocollection@acf.hhs.gov.

Mary C. Jones,
ACF/OPRE Certifying Officer.

[FR Doc. 2025-23265 Filed 12-17-25; 8:45 am]

BILLING CODE 4184-45-P